DEPARTMENT OF DEFENSE

Department of the Army; Corps of Engineers

Grant of Exclusive Licenses

AGENCY: U.S. Army Corps of Engineers, DOD.

ACTION: Notice.

SUMMARY: In accordance with 37 CFR 404.7(b)(1)(i), announcement is made of a prospective exclusive license for all fields of use, in the manufacture, use, and sale of the telescoping Weir covered by U.S. Patent No. 6,213,684 filed October 26, 1998.

DATES: Written objections must be filed not later than October 1, 2001.

ADDRESSES: U.S. Army Engineer Research and Development Center, 3909 Halls Ferry Road, Vicksburg, MS 39180-6199, ATTN: CERDC-OC-Z.

FOR FURTHER INFORMATION CONTACT: Mr. Phillip Stewart, ATTN: CEERD-OP-Z, (601) 634-4113, FAX (601) 634-4180, Internet stewarp@erdc.usace.army.mil.

SUPPLEMENTARY INFORMATION: The Telescoping Weir was invented by Jack Fowler, Ronald G. Vann and Thomas D. Woodward, Jr. Rights to the patent have been assigned to the United States of America as represented by the Secretary of the Army. The United States of America as represented by the Secretary of the Army intends to grant an exclusive license for all fields of use, in the manufacture, use, and sale of the telescoping weir to Oceaneering, Advanced Technologies Group, 501 Prince George Boulevard, Upper Marlboro, Maryland. Pursuant to 37 CFR 404.7(b)(1)(i), any interested party may file a written objection to this prospective exclusive license agreement.

Richard L. Frenette,
Counsel.

[FR Doc. 01-18981 Filed 7-30-01; 8:45 am]

BILLING CODE 3710-92-M